DEPARTMENT OF AGRICULTURE

Natural Resources Conservation Service

[Docket No. NRCS-2024-0006]

Notice of Intent To Prepare an Environmental Impact Statement for the Pleasant Creek Supplemental Watershed Plan in Sanpete County, Utah

AGENCY: Natural Resources Conservation Service, USDA.

ACTION: Notice of intent (NOI) to prepare an environmental impact statement (EIS).

SUMMARY: The Natural Resources Conservation Service (NRCS) Utah State Office announces its intent to prepare an EIS for the Pleasant Creek watershed in Sanpete County, Utah. The proposed EIS will examine alternative solutions to address watershed structure rehabilitation, flood damage prevention and reduction, agricultural water management, water conservation, and public recreational efforts in Mt. Pleasant City and portions of unincorporated Sanpete County. The Pleasant Creek watershed includes Mt. Pleasant City; existing water resource facilities, including the Upper Debris Basin, Lower Debris Basin, the Surge Pond, and the Agricultural Reservoir; private agricultural land; and U.S. Forest Service-managed land in the upper watershed. NRCS is requesting comments to identify significant issues, potential alternatives, information, and analyses relevant to the proposed action from all interested individuals, Federal and State agencies, and Tribes.

DATES: We will consider comments that we receive by June 7, 2024. We will consider comments received after close of the comment period to the extent possible.

ADDRESSES: We invite you to submit comments in response to this notice. You may submit your comments through one of the methods below:

• Federal eRulemaking Portal: Go to http://www.regulations.gov and search for docket ID NRCS-2024-0006. Follow the online instructions for submitting comments; or

• Mail or Hand Delivery: Derek Hamilton, Water Resources Coordinator, USDA, NRCS, Utah State Office, 125 S State Street, #4010, Salt Lake City, Utah 84138. In your comments, specify the docket ID NRCS-2024-0006.

All comments received will be posted without change and made publicly available on www.regulations.gov.

FOR FURTHER INFORMATION CONTACT: Derek Hamilton; telephone: (801) 524-4560; email: derek.hamilton@usda.gov. Individuals who require alternative means for communication should contact the U.S. Department of Agriculture (USDA) Target Center at (202) 720-2600 (voice and text telephone (TTY)) or dial 711 for Telecommunications Relay service (both voice and text telephone users can initiate this call from any telephone).

SUPPLEMENTARY INFORMATION:

Purpose and Need

The primary purpose for the supplemental watershed plan is to rehabilitate debris basins and holding ponds in the watershed to prevent flooding and reduce flood damage; improve agricultural water delivery, supply, and conservation; and provide public recreation opportunities. Watershed planning is authorized under the Watershed Protection and Flood Prevention Act of 1954 (Pub. L. 83-566), as amended, and the Flood Control Act of 1944 (Pub. L. 78-534).

This supplemental watershed plan is sponsored by Mt. Pleasant City and cosponsored by Pleasant Creek Irrigation Company and Twin Creek Irrigation Company. The proposed action is needed to address flood prevention in Mt. Pleasant City and portions of unincorporated Sanpete County and reduce flood damage now that existing facilities and infrastructure are beyond their useful design life. The existing facilities do not provide adequate flood protection for Mt. Pleasant City and surrounding areas and do not meet NRCS and Utah Dam Safety standards. The current pipe network for Mt. Pleasant City has aged and is in constant need of costly maintenance and repair. The system was installed in the 1980s, experiences significant water losses, and no longer functions effectively as a shared system for agricultural and residential irrigation users. Drought, city growth, water shortages, and operations and maintenance challenges have caused strain to the system. Pressure surges and pipe failure often occur during system filling operations and inadequate valving requires large segments or the entire system to be shut down for essential repairs.

Estimated federal funds required for the construction of the proposed action may exceed $25 million and the proposed action will, therefore, require congressional approval per the 2018 Agriculture Appropriations Act amended funding threshold. In accordance with the regulation in 7 CFR 650.7(a)(2), an EIS is required for projects requiring congressional approval.

Preliminary Proposed Action and Alternatives, Including No Action

The EIS objective is to formulate and evaluate alternatives for flood control and prevention, agricultural water management, and recreational opportunities in the approximately 84,180 acre Pleasant Creek watershed area. The EIS is expected to evaluate three alternatives: two action alternatives, and one no action alternative. The alternatives that may be considered for detailed analysis include:

• Alternative 1—No Action Alternative: Taking no action would consist of activities conducted if no federal action or funding were provided. If the No Action Alternative is selected, the existing infrastructure would not be improved, and no capital investment would be required. Sediment would continue to accumulate and water storage volumes would continue to decrease. The existing water storage structures would continue to operate in their current condition, providing inadequate flood protection and overflow during large runoff events. The existing agricultural water infrastructure would continue to incur large water losses resulting in conflicts between agricultural and residential users. The existing infrastructure does not meet the purpose and need to prevent flooding; to reduce flooding risks; to improve agricultural water delivery, supply and conservation; or to provide recreational opportunities.

• Alternative 2—Proposed Action—Existing Structure Improvement Alternative: The proposed action would rehabilitate and enlarge the Upper Debris Basin for a total water storage capacity of 840 acre-feet to provide additional flood protection capacity and 50-80 days of irrigation water storage; decommission the Lower Debris Basin; rehabilitate the Agricultural Reservoir and Surge Pond to address current dam safety deficiencies and add dedicated irrigation water storage for residential secondary water users; construct a new 20 acre-foot Twin Creek Irrigation Storage Reservoir to provide additional dedicated residential secondary water storage; replace the existing secondary irrigation water pipeline system within Mt. Pleasant City to separate residential secondary water and agricultural water; install meters on the agricultural and residential secondary water system for more accurate usage calculations and billing; and construct a day use recreational facility and trail for additional recreational opportunities.

• Alternative 3—Proposed Action—Twin Creek Reservoir Alternative: The proposed action would include the measures outlined in Alternative 2 and would also construct a new 1,000 acre-foot Twin Creek Flood Control and Storage Multi-Purpose Reservoir to manage floodwater; provide additional water storage; and assist in ongoing water conservation efforts. This proposed action would also replace the existing, deteriorated Agricultural Transmission Pipeline to provide reliable agricultural water supply and pipe the existing Northwest Irrigation Ditches to reduce water losses, decrease maintenance costs, and improve public safety.

Summary of Expected Impacts

As mentioned above, the estimated Federal contribution to construction cost will exceed $25 million.

The EIS will be prepared as required by section 102(2)(C) of the National Environmental Policy Act of 1969 (NEPA); the Council on Environmental Quality Regulations (40 CFR parts 1500-1508); and NRCS regulations that implement NEPA in 7 CFR part 650.

Resource concerns for scoping were identified and categorized as relevant or not relevant to the proposed action. Mt. Pleasant City, Pleasant Creek Irrigation Company, Twin Creek Irrigation Company, and NRCS evaluated the current condition of watershed structures, flood risk, agricultural water management, water conservation efforts, and recreational opportunities in the Pleasant Creek watershed along with relevant resource concerns for each proposed solution. Environmental resources in the project area consist of the natural and man-made resources. Resource concerns to be identified and addressed in the Supplemental Watershed Plan-EIS include: wetland and channel alteration, disturbances to wildlife and riparian areas during construction, land use changes, and impacts to visual resources.

Anticipated Permits and Authorizations

The following permits and authorizations are anticipated to be required:

• Dam Safety. Coordination with the State Engineer and the Utah Division of Water Rights would be required to ensure all development and engineering requirements for the design and construction of the Upper Debris Basin, Agricultural Reservoir and Surge Pond, and Twin Creek Reservoir are implemented.

• Stream Alteration Permit. The proposed action would require coordination and permits with the Utah Division of Water Rights for the proposed improvements.

• Federal Emergency Management Agency (FEMA) Floodplain Development Permit. Implementation of the proposed action would require coordination with the local floodplain administrator and may require a Floodplain Development Permit to ensure all development and engineering requirements for construction within the Special Flood Hazard Areas are implemented. Additionally, a Letter of Map Revision from FEMA would be required prior to construction.

• Clean Water Act (CWA) and National Pollutant Discharge Elimination System (NPDES). The proposed action may require water quality certification under section 401 of the CWA, permitting under section 402 of the NPDES, and section 404 of the CWA for potential impacts to wetlands and Waters of the United States.

• National Historic Preservation Act (NHPA) Section 106. Consultation with Tribal Nations and interested parties would be conducted as required by the NHPA.

• Local Encroachment. Consultation and potential encroachment permits would be required with Mt. Pleasant City and Sanpete County for all construction work within the local roadway rights-of-way.

Schedule of Decision-Making Process

A Draft EIS (DEIS) will be prepared and circulated for review and comment by agencies, Tribes, consulting parties, and the public for 45 days as required by the regulations in 40 CFR 1503.1, 1502.20, 1506.11, and 1502.17, and 7 CFR 650.13. The DEIS is anticipated to be published in the Federal Register, approximately 24 months after publication of this NOI. A Final EIS is anticipated to be published within 8 months of completion of the public comment period for the DEIS.

NRCS will decide whether to implement one of the action alternatives as evaluated in the EIS. A Record of Decision will be completed after the required 30-day waiting period and will be publicly available. The responsible Federal official and decision maker for NRCS is the Utah State Conservationist.

Public Scoping Process

A public scoping meeting was held on April 11, 2019. Comments received, including the names and addresses of those who commented, are part of the public record. Scoping meeting presentation materials were available for review and comment for 30 days from Thursday, March 28, 2019, through Friday, April 26, 2019. The date, time, and location for a second meeting will be announced on the project website.

Federal, State, Tribal, local agencies and representatives, and the public were invited to take part in the watershed plan scoping period. Mt. Pleasant City, Pleasant Creek Irrigation Company, Twin Creek Irrigation Company, and NRCS organized the public scoping meeting to provide an opportunity to review and evaluate the project alternatives, express concern, or support, and gain further information regarding the project. To determine the most viable alternatives to carry forward to the EIS, Mt. Pleasant City, Pleasant Creek Irrigation Company, Twin Creek Irrigation Company, and NRCS used input obtained during public scoping discussions to focus on relevant resource concerns and issues and eliminated those that were not relevant from further detailed study.

NRCS will coordinate the scoping process to correspond with section 106 of the NHPA (54 U.S.C. 306108), as allowed in the regulations in 36 CFR 800.2(d)(3) and 800.8.

Identification of Potential Alternatives, Information, and Analyses

NRCS invites agencies, Tribes, consulting parties, and individuals that have special expertise, legal jurisdiction, or interest in the Pleasant Creek Supplemental Watershed Plan to provide written comments concerning the scope of the analysis and identification of potential alternatives, information, and analyses relevant to the Proposed Action.

Information about historic and cultural resources within the area potentially affected by the proposed project will assist NRCS in identifying and evaluating impacts to such resources in the context of both NEPA and NHPA.

NRCS will consult with Native American Tribes on a government-to-government basis in accordance with the regulations in 36 CFR 800.2 and 800.3, Executive Order 13175, and other policies. Tribal concerns, including impacts on Indian trust assets and potential impacts to cultural resources and historic properties, will be given due consideration.

Authorities

This document is published as specified by the NEPA regulations regarding publication of an NOI to issue an EIS (40 CFR 1501.9(d)). Watershed planning is authorized under the Watershed Protection and Flood Prevention Act of 1954, as amended and the Flood Control Act of 1944.

Federal Assistance Programs

The title and number of the Federal Assistance Program as found in the Assistance Listing ¹ to which this document applies is 10.904, Watershed Protection and Flood Prevention.

¹ See https://sam.gov/content/assistance-listings.

Executive Order 12372

Executive Order 12372, “Intergovernmental Review of Federal Programs,” requires consultation with State and local officials that would be directly affected by proposed Federal financial assistance. The objectives of the Executive order are to foster an intergovernmental partnership and a strengthened federalism, by relying on State and local processes for State and local government coordination and review of proposed Federal financial assistance and direct Federal development. This project is subject to the provisions of Executive Order 12372, which requires intergovernmental consultation with State and local officials.

USDA Non-Discrimination Policy

In accordance with Federal civil rights law and USDA civil rights regulations and policies, USDA, its agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and telephone) or dial 711 for Telecommunications Relay Service (both voice and text telephone users can initiate this call from any phone). Additionally, program information may be made available in languages other than English.

To file a program discrimination complaint, complete the USDA Program Discrimination Complaint Form, AD-3027, found online at: https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) Fax: (202 690-7442; or (3) email: program.intake@usda.gov.

USDA is an equal opportunity provider, employer, and lender.

Travis Mote,
Acting Utah State Conservationist, Natural Resources Conservation Service.

[FR Doc. 2024-10064 Filed 5-7-24; 8:45 am]

BILLING CODE 3410-16-P